ENVIRONMENTAL PROTECTION AGENCY

[EPA-HQ-OW-2018-0573; FRL-9982-04-Region 1]

Program Requirement Revisions Related to the Public Water System Supervision Programs for the State of Connecticut and the State of New Hampshire

AGENCY: Environmental Protection Agency (EPA).

ACTION: Notice.

SUMMARY: Notice is hereby given that the State of Connecticut and the State of New Hampshire are in the process of revising their respective approved Public Water System Supervision (PWSS) programs to meet the requirements of the Safe Drinking Water Act (SDWA).

DATES: A request for a public hearing must be submitted on or before September 13, 2018 to the Regional Administrator.

ADDRESSES: All documents relating to this determination are available for inspection between the hours of 8:30 a.m. and 4:00 p.m., Monday through Friday, at the following office(s):

U.S. Environmental Protection Agency, Office of Ecosystem Protection, 5 Post Office Square, Suite 100, Boston, MA 02109-3912.

For state-specific documents: Connecticut Department of Public Health, Drinking Water Section, 410 Capital Avenue, Hartford, CT 06134; and New Hampshire Department of Environmental Services, Drinking Water and Groundwater Bureau, 29 Hazen Drive, Concord, NH 03302-0095.

FOR FURTHER INFORMATION CONTACT: Jeri Weiss, U.S. EPA-New England, Office of Ecosystem Protection, telephone (617) 918-1568).

SUPPLEMENTARY INFORMATION:

I. Background

The State of Connecticut has adopted drinking water regulations for the Stage 1 Disinfectant and Disinfection Byproducts Rule (63 FR 69390) promulgated on December 16, 1998, and the Stage 2 Disinfectant and Disinfection Byproducts Rule (71 FR 388) promulgated on January 4, 2006. After review of the submitted documentation, EPA has determined that the State of Connecticut's Stage 1 Disinfectant and Disinfection Byproducts Rule and Stage 2 Disinfectant and Disinfection Byproducts Rule are no less stringent than the corresponding federal regulations. Therefore, EPA intends to approve Connecticut's PWSS program revision for these rules.

The State of New Hampshire has adopted drinking water regulations for the Ground Water Rule (71 FR 65574) promulgated on November 8, 2006, the Lead and Copper Short Term Revisions Rule (72 FR 57782) promulgated on October 10, 2007, the Revised Total Coliform Rule (78 FR 10269) promulgated February 13, 2013, the Stage 1 Disinfectant and Disinfection Byproducts Rule (63 FR 69390) promulgated on December 16, 1998, and the Stage 2 Disinfectant and Disinfection Byproducts Rule (71 FR 388) promulgated on January 4, 2006. After review of the submitted documentation, EPA has determined that the state of New Hampshire's Groundwater Rule, Lead and Copper Short-Term Revisions Rule, Revised Total Coliform Rule, Stage 1 Disinfectant and Disinfection Byproducts Rule, and the Stage 2 Disinfectant and Disinfection Byproducts Rule are no less stringent than the corresponding federal regulations. In addition, EPA's primary enforcement responsibility regulations require states that accept electronic documents to have adopted regulations consistent with 40 CFR part 3 (Electronic reporting). New Hampshire accepts electronic documents and is in the process of adopting the necessary regulations that will supplement the State's legal authority under the State's Uniform Electronic Transactions Act. Therefore, EPA intends to approve New Hampshire's PWSS program revision for these rules.

II. Public Hearing Requests

All interested parties may request a public hearing for any of the EPA determinations. Frivolous or insubstantial requests for a hearing may be denied by the Regional Administrator.

However, if a substantial request for a public hearing is made by this date, a public hearing will be held. If no timely and appropriate request for a hearing is received, and the Regional Administrator does not elect to hold a hearing on his/her own motion, this determination shall become final and effective September 13, 2018. Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

Authority: Section 1401 (42 U.S.C. 300f) and Section 1413 (42 U.S.C. 300g-2) of the Safe Drinking Water Act, as amended (1996), and (40 CFR 142.10) of the National Primary Drinking Water Regulations.

Dated: July 30, 2018.
Deborah A. Szaro,
Deputy Regional Administrator, EPA Region 1—New England.

[FR Doc. 2018-17447 Filed 8-13-18; 8:45 am]

BILLING CODE 6560-50-P